DEPARTMENT OF COMMERCE

International Trade Administration

The President's Export Council: Meeting of the President's Export Council

AGENCY: International Trade Administration, U.S. Department of Commerce.

ACTION: Notice of an open meeting via teleconference.

SUMMARY: The President's Export Council will hold a meeting via teleconference to discuss a draft recommendation to the President regarding export control legislation.

DATES: December 2, 2004.

Time: 1 p.m. e.s.t.

For the Conference Call-In Number and Further Information Contact: The President's Export Council Executive Secretariat, Room 4043, Washington, DC 20230 (phone: 202-482-1124), or visit the PEC Web site, http://www.ita.doc.gov/td/pec.

Dated: November 29, 2004.
J. Marc Chittum,
Staff Director and Executive Secretary, President's Export Council.

[FR Doc. E4-3445 Filed 12-1-04; 8:45 am]

BILLING CODE 3510-DR-P